DEPARTMENT OF ENERGY

Federal Energy Regulatory Commission

[Project No. 1417-080]

Central Nebraska Public Power and Irrigation District; Notice of Availability of Final Environmental Assessment

October 7, 2002.

In accordance with the National Environmental Policy Act of 1969 and the Federal Energy Regulatory Commission's (Commission) regulations, 18 CFR Part 380 (Order No. 486, 52 FR 47897), the Office of Energy Projects has reviewed a Land and Shoreline Management Plan for the Kingsley Dam Hydroelectric Project, located on the North Platte and Platte Rivers, in Garden, Keith, Lincoln, Dawson, and Gosper Counties, Nebraska, and has prepared a Final Environmental Assessment (FEA). The Kingsley Dam Project does not occupy any federal or tribal lands.

The FEA contains the staff's analysis of the potential environmental impacts and concludes that approving the Shoreline Management Plan, with staff recommended changes, would not constitute a major federal action significantly affecting the quality of the human environment.

A copy of the FEA is available for review at the Commission in the Public Reference Room or may be viewed on the Commission's Web site at http://www.ferc.gov using the “FERRIS” link. Enter the docket number excluding the last three digits in the docket number field to access the document.

For assistance, call (202) 502-8222 or for TTY (202) 502-8659 For further information, contact Steve Hocking at (202) 502-8753 or steve.hocking@ferc.gov.

Linwood A. Watson, Jr.,
Deputy Secretary.

[FR Doc. 02-25977 Filed 10-10-02; 8:45 am]

BILLING CODE 6717-01-P